DEPARTMENT OF STATE

[Public Notice: 7053]

Bureau of Educational and Cultural Affairs; U.S. Professional Development Program for EducationUSA Advisers

Notice: Correction to original Request for Grant Proposals.

Summary: The United States Department of State, Bureau of Educational and Cultural Affairs, announces a revision to the original Request for Grant Proposals (RFGP) for the U.S. Professional Development Program for EducationUSA Advisers, announced in the Federal Register on May 6, 2010 (Volume 75, Number 87):

Due to a clerical error, the header of the announcement states the deadline for this competition as July 7. The correct deadline, as stated in section IV.3f of the announcement, is July 9, 2010. All other terms and conditions of the original announcement remain the same.

Additional Information

Interested organizations should contact ECA/A/S/A Branch Chief Caryn Danz or Program Officer Dorothy Mora, U.S. Department of State, Educational Information and Resources Branch, ECA/A/S/A, SA-5, 4th Floor, ECA/A/S/A-11-05, 2200 C Street, NW., Washington, DC 20522-0503. Telephone for Caryn Danz is (202) 632-6353; E-mail address: DanzCB@state.gov. Telephone for Dorothy Mora is (202) 632-6347; E-mail address: MoraDD@state.gov. Fax: 202-632-9478.

Dated: June 11, 2010.
Maura M. Pally,
Acting Assistant Secretary for Educational and Cultural Affairs, U.S. Department of State.

[FR Doc. 2010-14686 Filed 6-16-10; 8:45 am]

BILLING CODE 4710-11-P